DEPARTMENT OF ENERGY

Federal Energy Regulatory Commission

[Docket No. CP00-437-000]

El Paso Natural Gas Company; Application

August 18, 2000.

Take notice that on August 11, 2000, El Paso Natural Gas Company (El Paso), a Delaware corporation, whose mailing address is Post Office Box 1492, El Paso, Texas, 79978, filed an application at Docket No. CP00-437-000, pursuant to Sections 7(b) of the Natural Gas Act (NGA) and Sections 157.7, et seq., of the Federal Energy Regulatory Commission's (Commission) Regulations under the NGA, for permission and approval to transfer to El Paso Field Services Company (Field Services) certain existing compression facilities, with appurtenant facilities, and the related service at the Waha Compressor Station located in Reeves County, Texas, all as more fully set forth in the application which is on file with the Commission and open to public inspection. This filing may be viewed on the web at http://www.ferc.fed.us/online/rims.htm (call 202-208-2222).

El Paso requests expedited treatment of the abandonment application to facilitate the transfer of the subject compression facilities and to provide for a seamless operational transition.

El Paso indicates that on November 10, 1999, the Commission issued an order in response to the Williams Field Services Group, Inc. (Williams) compliant at Docket No. RP99-471-000. El Paso also indicates that the Commission found that the “A” Plant at El Paso's Blanco Compressor Station in San Juan County, New Mexico was properly functionalized as a transmission facility, but the “C” and “D” Plants, which El Paso had functionalized as transmission facilities, were in fact performing primarily a gathering function. Further, El Paso indicates that subsequently, in an Order Denying Rehearing issued on April 25, 2000, the Commission denied all requests for rehearing.

In recognition of the Commission's analysis, orders, and counsel in the Blanco Complaint Proceeding at Docket No. RP99-471-000, El Paso states that it has evaluated the existing compression facilities at its Waha Compressor Station. Additionally, El Paso states that certain shippers on El Paso's system expressed concerns regarding the functionalization of facilities and the allocation of costs for the Waha Compressor Station. El Paso submits that those shippers raised concerns similar to those raised in Docket No. RP99-471-000, i.e., that El Paso should have functionalized and spundown additional facilities and costs to El Paso's gathering affiliate. In response to those concerns, and based on El Paso's subsequent review of the facilities and operations at the Waha Compressor Station, El Paso says that it has agreed certain changes to the functionalization of the facilities at the Waha Compressor Station are appropriate. El Paso states that it has determined that certain compressor facilities at the Waha Compressor Station possess a similar physical configuration to the Blanco “C” and “D” Plants (i.e., located upstream of transmission facilities delivering directly into the mainline), operate at similar pressures (150 to 300 psia) and provide similar services as the Blanco “C” and “D” Plants (i.e., field related services vs. transmission related services).

Specifically, El Paso submits that it has determined the following facilities at the Waha Compressor Station to be consistent with the Commission's findings for the Blanco “C” and “D” Plants (performing primarily a gathering service): (1) One General Electric Frame 5 Gas Turbine and one “sour gas” compressor unit, comprising a total of 26,250 ISO horsepower; and (2) interconnecting drive units, with appurtenant piping and related equipment (Waha Field Compression Facilities). As a consequence, El Paso states that it does not desire to own and operate these Waha Field Compression Facilities as “gathering facilities” since the ownership and operation of the gathering facilities by El Paso would not be consistent with its past corporate restructuring which involved the spin-down of gathering facilities to Field Services.

El Paso says that it believes that the abandonment of these compression facilities by transfer to Field Services will provide for a smooth, seamless transition of services without any interruption in service or rate stacking, which would occur if the compression facilities were acquired by a third party. Further, El Paso says that such abandonment is consistent with El Paso's spin-down of facilities to Field Services, which was approved by the Commission at Docket No. CP94-183-000. Finally, El Paso says that it is El Paso's understanding that upon transfer of the Waha Field Compression Facilities, Field Services will continue to deliver the same volumes of natural gas at the required mainline pressure at the existing custody transfer point immediately downstream of the Saha Treating Plant.

El Paso says that it will continue to own and cause the operation of its remaining compression facilities located at the Waha Compressor Station for jurisdictional transmission service.

Any questions regarding the application should be directed to Mr. A.W. Clark, Vice President, El Paso Natural Gas Company, Post Office Box 1492, El Paso, Texas 79978 at (915) 496-2600.

Any person desiring to be heard or to make any protest with reference to said document should, on or before September 8, 2000, file with the Federal Energy Regulatory Commission, Washington, D.C., 20426, a protest or motion to intervene in accordance with the requirements of Rule 211 or 214 of the Commission's Rules of Practice and Procedure (18 CFR 385.211 or 385.214) and the Regulations under the Natural Gas Act (18 CFR 157.10). All protests filed with the Commission will be considered by it in determining the appropriate action to be taken but will not serve to make the protestants parties to the proceeding. The Commission's Rules require that protestors provide copies of their protests to the party or parties directly involved. Any person wishing to become a party to a proceeding or to participate as a party in any hearing therein must file a motion to intervene in accordance with the Commission's Rules.

A person obtaining intervenor status will be placed on the service list maintained by the Commission and will receive copies of all documents filed by the Applicant and by every one of the intervenors. An intervenor can file for rehearing of any Commission order and can petition for court review of any such order. However, an intervenor must submit copies of comments or any other filing it makes with the Commission to every other intervenor in the proceeding, as well as 14 copies with the Commission.

A person does not have to intervene, however, in order to have comments considered. A person, instead, may submit two copies of comments to the Secretary of the Commission. Commenters will be placed on the Commission's environmental mailing list, will receive copies of the environmental documents and will be able to participate in meetings associated with the Commission's environmental review process. Commenters will not be required to serve copies of filed documents on all other parties. However, commenters will not receive copies of all documents filed by other parties or issued by the Commission and will not have the right to seek rehearing or appeal the Commission's final order to a federal court.

The Commission will consider all comments and concerns equally, whether filed by commenters or those requesting intervenor status.

Take further notice that, pursuant to the authority contained in and subject to the jurisdiction conferred upon the Federal Energy Regulatory Commission by Sections 7 and 15 of the Natural Gas Act and the Commission's Rules of Practice and Procedure, a hearing will be held without further notice before the Commission or its designee on this application if no motion to intervene is filed within the time required herein, if the Commission on its own review of the matter finds that a grant of the certificate is required by public convenience and necessity. If a motion for leave to intervene is timely filed, or if the Commission on its own motion believes that a formal hearing is required, further notice of such hearing will be duly given.

Under the procedures herein provided for, unless otherwise advised, it will be unnecessary for El Paso to appear or be represented at the hearing.

David P. Boergers,
Secretary.

[FR Doc. 00-21603 Filed 8-23-00; 8:45 am]

BILLING CODE 6717-01-M